DEPARTMENT OF COMMERCE

Bureau of Industry and Security

15 CFR Parts 730, 734, 746, 770, 772 and 774

[Docket No. 040920270-4270-01]

RIN 0694-AD13

Nomenclature Change: References to Another Agency

AGENCY: Bureau of Industry and Security, Commerce.

ACTION: Final rule; Nomenclature change.

SUMMARY: The Export Administration Regulations (EAR) are amended to update certain references to the U.S. State Department's Directorate of Defense Trade Controls. The EAR contain references to this agency under its current name and under its former name, the Office of Defense Trade Controls. This amendment will remove the possibility that a member of the public might think that two different offices are being referenced.

DATES: Effective October 12, 2004.

ADDRESSES: Although this is a final rule, comments are welcome and should be addressed to Timothy Mooney, Office of Exporter Services, Bureau of Industry and Security, Department of Commerce, P.O. Box 273, Washington, DC 20044, E-mailed to: tmooney@bis.doc.gov, or faxed to 202-482-3355.

FOR FURTHER INFORMATION CONTACT: Timothy Mooney, Regulatory Policy Division, Bureau of Industry and Security, Telephone: (202) 482-2440, E-mail: tmooney@bis.doc.gov.

SUPPLEMENTARY INFORMATION

Background

This rule amends the Export Administration Regulations (EAR) to conform with a decision made by the Department of State, through an internal organizational order, to change the name of the Office of Defense Trade Controls to the “Directorate of Defense Trade Controls.” Consistent with this name change, this rule makes a number of changes in chapter VII, subchapter C of title 15 of the Code of Federal Regulations, the Export Administration Regulations (EAR). Specifically, this rule changes all references to the “Office of Defense Trade Controls” and “DTC”, wherever they appear in chapter VII, subchapter C to the “Directorate of Defense Trade Controls” and “DDTC”, respectively. In addition, this rule changes the appropriate definitions sections to conform to the new name of the office.

Although the Export Administration Act expired on August 20, 2001, Executive Order 13222 of August 17, 2001 (3 CFR, 2001 Comp., p. 783 (2002)), as extended by the Notice of August 6, 2004, 69 FR 48763 (August 10, 2004) continues the Regulations in effect under the International Emergency Economic Powers Act.

Rulemaking Requirements

1. This final rule has been determined to be not significant for purposes of E.O. 12866.

2. This rule does not impose information collection or recordkeeping requirements. Consequently, it need not be reviewed by the Office of Management and Budget under the provisions of the Paperwork Reduction Act of 1995 (44 U.S.C. 3501 et seq.).

3. This rule does not contain policies with Federalism implications as that term is defined under E.O. 13132.

4. The provisions of the Administrative Procedure Act (5 U.S.C. 553) requiring notice of proposed rulemaking, the opportunity for public participation, and a delay in effective date, are inapplicable because this rule involves a rule of agency organization, procedure, or practice. 5 U.S.C. 553(b). Further, no other law requires that a notice of proposed rulemaking and an opportunity for public comment be given for this final rule. Because a notice of proposed rulemaking and an opportunity for public comment are not required to be given for this rule under 5 U.S.C. or by any other law, the analytical requirements of the Regulatory Flexibility Act (5 U.S.C. 601, et seq.) are not applicable.

List of Subjects

15 CFR Part 730

Administrative practice and procedure, Advisory committees, Exports, Reporting and recordkeeping requirements, Strategic and critical materials.

15 CFR Part 734

Administrative practice and procedure, Exports, Inventions and patents, Research, Science and technology.

15 CFR Parts 746 and 774

Exports, Reporting and recordkeeping requirements.

15 CFR Parts 770 and 772

Exports.

For the reasons set forth in the preamble, 15 CFR chapter VII, subchapter C is amended as set forth below.

PART 730—[AMENDED]

1. The authority citation for part 730 is revised to read as follows:

Authority: 50 U.S.C. app. 2401 et seq.; 50 U.S.C. 1701 et seq.; 10 U.S.C. 7420; 10 U.S.C. 7430(e); 18 U.S.C. 2510 et seq.; 22 U.S.C. 287c; 22 U.S.C. 2151 note, Pub. L. 108-175; 22 U.S.C. 3201 et seq.; 22 U.S.C. 6004; 30 U.S.C. 185(s), 185(u); 42 U.S.C. 2139a; 42 U.S.C. 6212; 43 U.S.C. 1354; 46 U.S.C. app. 466c; 50 U.S.C. app. 5; Sec. 901-911, Pub. L. 106-387; Sec. 221, Pub. L. 107-56; E.O. 11912, 41 FR 15825, 3 CFR, 1976 Comp., p. 114; E.O. 12002, 42 FR 35623, 3 CFR, 1977 Comp., p. 133; E.O. 12058, 43 FR 20947, 3 CFR, 1978 Comp., p. 179; E.O. 12214, 45 FR 29783, 3 CFR, 1980 Comp., p. 256; E.O. 12851, 58 FR 33181, 3 CFR, 1993 Comp., p. 608; E.O. 12854, 58 FR 36587, 3 CFR, 1993 Comp., p. 179; E.O. 12918, 59 FR 28205, 3 CFR, 1994 Comp., p. 899; E.O. 12938, 59 FR 59099, 3 CFR, 1994 Comp., p. 950; E.O. 12947, 60 FR 5079, 3 CFR, 1995 Comp., p. 356; E.O. 12981, 60 FR 62981, 3 CFR, 1995 Comp., p. 419; E.O. 13020, 61 FR 54079, 3 CFR, 1996 Comp. p. 219; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; E.O. 13338, 69 FR 26751, May 13, 2004; Notice of October 29, 2003, 68 FR 62209, 3 CFR, 2003 Comp., p. 347; Notice of August 6, 2004, 69 FR 48763 (August 10, 2004).

2. In Part 730, revise all references to the “Office of Defense Trade Controls” to read “Directorate of Defense Trade Controls”; and revise all references to “DTC” to read “DDTC”.

PART 734—[AMENDED]

3. The authority citation for part 734 is revised to read as follows:

Authority: 50 U.S.C. app. 2401 et seq.; 50 U.S.C. 1701 et seq.; E.O. 12938, 59 FR 59099, 3 CFR, 1994 Comp., p. 950; E.O. 13020, 61 FR 54079, 3 CFR, 1996 Comp., p. 219; E.O. 13026, 61 FR 58767, 3 CFR, 1996 Comp., p. 228; E.O. 13222, 66 FR 44025, 3 CFR, 2001 Comp., p. 783; Notice of October 29, 2003, 68 FR 62209, 3 CFR, 2003 Comp., p. 347; Notice of August 6, 2004, 69 FR 48763 (August 10, 2004).

4. In Part 734, revise all references to the “Office of Defense Trade Controls” to read “Directorate of Defense Trade Controls”; and revise all references to “DTC” to read “DDTC”.

PART 746—[AMENDED]

5. The authority citation for part 746 is revised to read as follows:

Authority: 50 U.S.C. app. 2401 et seq.; 50 U.S.C. 1701 et seq.; 22 U.S.C. 287c; Sec 1503, Pub. L. 108-11,117 Stat. 559; 22 U.S.C. 6004; Sec. 901-911, Pub. L. 106-387; Sec. 221, Pub. L. 107-56; E.O. 12854, 58 FR 36587, 3 CFR 1993 Comp., p. 614; E.O. 12918, 59 FR 28205, 3 CFR, 1994 Comp., p. 899; E.O. 13222, 3 CFR, 2001 Comp., p. 783; Presidential Determination 2003-23 of May 7, 2003, 68 FR 26459, May 16, 2003; Notice of August 6, 2004, 69 FR 48763 (August 10, 2004).

6. In Part 746, revise all references to the “Office of Defense Trade Controls” to read “Directorate of Defense Trade Controls”; and revise all references to “DTC” to read “DDTC”.

PART 770—[AMENDED]

7. The authority citation for part 770 continues to read as follows:

Authority: 50 U.S.C. app. 2401 et seq.; 50 U.S.C. 1701 et seq.; E.O. 13222, 66 FR 44025, 3 CFR, 2001 Comp., p. 783; Notice of August 6, 2004, 69 FR 48763 (August 10, 2004).

8. In Part 770, revise all references to the “”Office of Defense Trade Controls” to read “Directorate of Defense Trade Controls”; and revise all references to “DTC” to read “DDTC”.

PART 772—[AMENDED]

9. The authority citation for part 772 is revised to read as follows:

Authority: 50 U.S.C. app. 2401 et seq.; 50 U.S.C. 1701 et seq.; E.O. 13222, 66 FR 44025, 3 CFR, 2001 Comp., p. 783; Notice of August 6, 2004, 69 FR 48763 (August 10, 2004).

10. In § 772.1, remove the definition of “Defense Trade Control (DTC)” and add in alphabetical order the definition of “Directorate of Defense Trade Controls”, as set forth below.

§ 772.1 Definitions of terms as used in the Export Administration Regulations (EAR).

* * * * *

Directorate of Defense Trade Controls (DDTC). The office at the Department of State, formerly known as the Office of Defense Trade Controls and before that as the Office of Munitions Control, responsible for reviewing applications to export and reexport items on the U.S. Munitions List. (See 22 CFR parts 120 through 130.)

* * * * *

PART 774—[AMENDED]

11. The authority citation for part 774 continues to read as follows:

Authority: 50 U.S.C. app. 2401 et seq.; 50 U.S.C. 1701 et seq.; 10 U.S.C. 7420; 10 U.S.C. 7430(e); 18 U.S.C. 2510 et seq.; 22 U.S.C. 287c, 22 U.S.C. 3201 et seq., 22 U.S.C. 6004; 30 U.S.C. 185(s), 185(u); 42 U.S.C. 2139a; 42 U.S.C. 6212; 43 U.S.C. 1354; 46 U.S.C. app. 466c; 50 U.S.C. app. 5; Sec. 901-911, Pub. L. 106-387; Sec. 221, Pub. L. 107-56; E.O. 13026, 61 FR 58767, 3 CFR, 1996 Comp., p. 228; E.O. 13222, 66 FR 44025, 3 CFR, 2001 Comp., p. 783; Notice of August 6, 2004, 69 FR 48763 (August 10, 2004).

12. In Supplement No. 1 to Part 774, revise all references to the “Office of Defense Trade Controls” to read “Directorate of Defense Trade Controls”; revise all references to “Directorate of Defense Trade Control” to read “Directorate of Defense Trade Controls”; and revise all references to “DTC” to read “DDTC”.

Dated: October 4, 2004.
Peter Lichtenbaum,
Assistant Secretary for Export Administration.

[FR Doc. 04-22861 Filed 10-8-04; 8:45 am]

BILLING CODE 3510-33-P